DEPARTMENT OF TRANSPORTATION

Maritime Administration

[Docket Number MARAD-2001-8980]

Requested Administrative Waiver of the Coastwise Trade Laws

AGENCY: Maritime Administration, Department of Transportation.

ACTION: Invitation for public comments on a requested administrative waiver of the Coastwise Trade Laws for the vessel Southern Cross.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before April 2, 2001.

ADDRESSES: Comments should refer to docket number MARAD-2001-8980. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD's regulations at 46 CFR part 388.

Vessel Proposed for Waiver of the U.S.-Build Requirement

(1) Name of vessel and owner for which waiver is requested. Name of vessel: Southern Cross. Owner: Peter Murray.

(2) Size, capacity and tonnage of vessel. According to the applicant:

In pursuant with reg. 46 U.S.C. 14502 Gross tonnage is 28 and net tonnage is 25. The Southern Cross is a custom built Cross design trimaran sailboat. It is 46ft long and 25.2 breadth and 9.0 depth.

(3) Intended use for vessel, including geographic region of intended operation and trade. According to the applicant:

I intend to use the vessel as a sailing, diving, and teaching, liveaboard, for 6 passenger or less, sailing trimaran, in the area of the Florida keys, Key Largo to the Dry tortuous. I feel that this boat is unique in the fact that this is a sailing trimaran, engaged in not only sailing and diving, but I intend to use this vessel as a teaching platform, of not only sailing and diving, but a much greater concern, our environment.

(4) Date and Place of construction and (if applicable) rebuilding. Date of construction: 1975. Place of construction: Ontario, Canada.

(5) A statement on the impact this waiver will have on other commercial passenger vessel operators. According to the applicant:

To my knowledge there are no other trimaran sailboats in my immediate area that is doing a sailing, diving and teaching liveaboard operation. Although there are other boats down in key West, which is over 90 miles away as well as in key Largo, which is 15 miles away from my area, that are doing sailing charters, there are no trimarans doing a sailing, diving and teaching liveaboard operation. Each seems to have their own cliental, and also seem to go after localized traffic. Where I will advertise on the Internet and get my cliental from around the country. So I feel that my vessel would be a minimal financial impact if any, on other vessels in my area.

(6) A statement on the impact this waiver will have on U.S. shipyards. According to the applicant:

To my knowledge there are no us ship builders building a vessel similar to the southern Cross. The Southern Cross is custom built from a Norman Cross design. The vessel is constructed using a cold molded process which is very expensive and very heavy using the materials that were used in building Southern Cross. The new ship builders are using lighter materials and different designs i.e. * * * catamaran design hulls, but on the other hand being an older boat and made of wood, I've already spent many hours and lots of money in local boat yards. I know for a fact this will never end, and I feel that the Southern Cross will only stimulate the economic growth of local boat yards.

Dated: February 26, 2001.
By Order of the Maritime Administrator.
Joel C. Richard,
Secretary, Maritime Administration.

[FR Doc. 01-4995 Filed 2-28-01; 8:45 am]

BILLING CODE 4910-81-P